DEPARTMENT OF THE TREASURY

Internal Revenue Service

26 CFR Part 1

[TD 9315]

RIN 1545-BD10

Dual Consolidated Loss Regulations; Correction

AGENCY: Internal Revenue Service (IRS), Treasury.

ACTION: Correction to final regulations.

SUMMARY: This document contains a correction to final regulations (TD 9315) that were published in the Federal Register on Monday, March 19, 2007 (72 FR 12902) regarding dual consolidated losses. Section 1503(d) generally provides that a dual consolidated loss of a dual resident corporation cannot reduce the taxable income of any other member of the affiliated group unless, to the extent provided in regulations, the loss does not offset the income of any foreign corporation.

DATES: This correction is effective April 25, 2007.

FOR FURTHER INFORMATION CONTACT: Jeffrey P. Cowan, (202) 622-3860 (not a toll-free number).

SUPPLEMENTARY INFORMATION:

Background

The correction notice that is the subject of this document is under section 1503(d) of the Internal Revenue Code.

Need for Correction

As published, final regulations (TD 9315) contain an error that may prove to be misleading and is in need of clarification.

Correction of Publication

Accordingly, the publication of the final regulations (TD 9315), which was the subject of FR Doc. E7-4618, is corrected as follows:

On page 12904, column 1, in the preamble, under the paragraph heading “C. Elimination of the Consistency Rule”, third line from the bottom of the paragraph, the language “application of the dual consolidated” is corrected to read “application of the dual consolidated loss”.

LaNita Van Dyke
Chief, Publications and Regulations Branch, Legal Processing Division, Associate Chief Counsel, (Procedure and Administration).

[FR Doc. E7-7780 Filed 4-24-07; 8:45 am]

BILLING CODE 4830-01-P